DEPARTMENT OF THE INTERIOR

Bureau of Land Management

[CA-169-1610DP-025B]

Notice of Availability of Carrizo Plain National Monument Proposed Resource Management Plan and Final Environmental Impact Statement, California

AGENCY: Bureau of Land Management, Interior.

ACTION: Notice of availability.

SUMMARY: In accordance with the National Environmental Policy Act of 1969 (NEPA) and the Federal Land Policy and Management Act of 1976 (FLPMA), the Bureau of Land Management (BLM) has prepared a Proposed Resource Management Plan/Final Environmental Impact Statement (PRMP/FEIS) for the Carrizo Plain National Monument (CPNM).

DATES: BLM planning regulations at 43 CFR 1610.5-2 state that any person who meets the conditions as described in the regulations may protest BLM's PRMP. A person who meets the conditions and files a protest must file the protest within 30 days of the date that the Environmental Protection Agency publishes this notice in the Federal Register.

ADDRESSES: Copies of the CPNM PRMP/FEIS have been sent to affected Federal, State, and local government agencies, Native American tribes, and to interested parties. Copies of the CPNM PRMP/FEIS are available for public inspection at BLM's Bakersfield Field Office (3801 Pegasus Drive, Bakersfield, CA 93308) and the California State Office (2800 Cottage Way, Sacramento, CA 95825). Interested persons may also review the CPNM PRMP/FEIS at the following Web site: http://www.blm.gov/ca/bakersfield. All protests must be in writing and mailed to the following addresses:

Regular Mail (U.S. Postal Service): Director (210), Attention: Brenda Williams, P.O. Box 66538, Washington, DC 20035.

Overnight Mail (non-U.S. Postal Service): Director (210), Attention: Brenda Williams, 1620 L Street, NW., Suite 1075, Washington, DC 20036.

FOR FURTHER INFORMATION CONTACT: Johna Hurl, Carrizo Plain National Monument Manager, 3801 Pegasus Drive, Bakersfield, CA 93308, (661) 391-6093.

SUPPLEMENTARY INFORMATION: The planning area for the CPNM PRMP/FEIS falls within the Bakersfield Field Office's area of management responsibility. The planning area comprises the Carrizo Plain National Monument. A total of 200,000 acres of public lands are administered by the BLM in the planning area.

The decisions in the RMP will only apply to the BLM-administered public lands and mineral estate within the planning area.

Comments on the Draft RMP/EIS received from the public and internal BLM review were considered and incorporated, as appropriate, into the PRMP. Public comments resulted in the addition of clarifying text and several changes to the decisions contained in the PRMP, including adding lands to be managed for Wilderness characteristics and limiting vehicle use on monument roads to street licensed vehicles only. However, these comments did not result in significant changes to the decisions in the PRMP. Instructions for filing a protest with the Director of the BLM regarding this plan may be found in the Dear Reader Letter of the CPNM PRMP/FEIS and at 43 CFR 1610.5-2. E-mail and faxed protests will not be accepted as valid protests unless the protesting party also provides the original letter by either regular or overnight mail postmarked by the close of the protest period. If these conditions are met, the BLM will consider the e-mail or faxed protest as an advance copy and it will receive full consideration. If you wish to provide the BLM with such advance notification, please direct faxed protests to the attention of the BLM protest coordinator at 202-452-5112, and e-mails to Brenda_Hudgens-Williams@blm.gov.

All protests, including the follow-up letter (if e-mailing or faxing), must be in writing and mailed to the appropriate address, as set forth in the ADDRESSES section above.

Timothy Z. Smith,
Bakersfield Field Manager.

[FR Doc. E9-27323 Filed 11-12-09; 8:45 am]

BILLING CODE 4310-40-P